DEPARTMENT OF ENERGY

Federal Energy Regulatory Commission

Combined Notice of Filings

Take notice that the Commission has received the following Natural Gas Pipeline Rate and Refund Report filings:

Filings Instituting Proceedings

Docket Numbers: RP18-1198-000.

Applicants: Alliance Pipeline L.P.

Description: § 4(d) Rate Filing: APL 09-21-2018 MDU Delivery Point Filing to be effective 10/22/2018.

Filed Date: 9/21/18.

Accession Number: 20180921-5108.

Comments Due: 5 p.m. ET 10/3/18.

Docket Numbers: RP18-1038-001.

Applicants: Northern Border Pipeline Company.

Description: Compliance filing Best Bid Evaluation—Compliance Filing to be effective 9/24/2018.

Filed Date: 9/24/18.

Accession Number: 20180924-5021.

Comments Due: 5 p.m. ET 10/9/18.

Docket Numbers: RP18-1038-002.

Applicants: Northern Border Pipeline Company.

Description: Compliance filing Best Bid Evaluation—Compliance Amended to be effective 9/1/2018.

Filed Date: 9/24/18.

Accession Number: 20180924-5136.

Comments Due: 5 p.m. ET 10/9/18.

Docket Numbers: RP18-1199-000.

Applicants: Texas Gas Transmission, LLC.

Description: § 4(d) Rate Filing: Amendments to NC Agmts (BHP 31591 to MMGJ AR Upstream 31591) to be effective 9/28/2018.

Filed Date: 9/24/18.

Accession Number: 20180924-5034.

Comments Due: 5 p.m. ET 10/9/18.

Docket Numbers: RP18-1200-000.

Applicants: Algonquin Gas Transmission, LLC.

Description: § 4(d) Rate Filing: Negotiated Rate-Bay State to BBPCs 797515 and 797514 to be effective 10/1/2018.

Filed Date: 9/24/18.

Accession Number: 20180924-5037.

Comments Due: 5 p.m. ET 10/9/18.

Docket Numbers: RP18-1201-000.

Applicants: Gas Transmission Northwest LLC.

Description: eTariff filing per 1430: GTN 501(g) Request for Waiver.

Filed Date: 9/24/18.

Accession Number: 20180924-5079.

Comments Due: 5 p.m. ET 9/28/18.

Docket Numbers: RP18-1202-000.

Applicants: Iroquois Gas Transmission System, L.P.

Description: § 4(d) Rate Filing: 092418 Negotiated Rates—Hartree Partners, LP R-7090-05 to be effective 11/1/2018.

Filed Date: 9/24/18.

Accession Number: 20180924-5081.

Comments Due: 5 p.m. ET 10/9/18.

Docket Numbers: RP18-1203-000.

Applicants: Iroquois Gas Transmission System, L.P.

Description: § 4(d) Rate Filing: 092418 Negotiated Rates—Hartree Partners, LP R-7090-06 to be effective 11/1/2018.

Filed Date: 9/24/18.

Accession Number: 20180924-5082.

Comments Due: 5 p.m. ET 10/9/18.

Docket Numbers: RP18-1204-000.

Applicants: El Paso Natural Gas Company, L.L.C.

Description: § 4(d) Rate Filing: Negotiated Rate Agreement Filing (SPS) to be effective 9/25/2018.

Filed Date: 9/24/18.

Accession Number: 20180924-5106.

Comments Due: 5 p.m. ET 10/9/18.

Docket Numbers: RP18-1205-000.

Applicants: Dominion Energy Questar Pipeline, LLC.

Description: Compliance filing Compliance filing in Docket CP18-192-000 to be effective 9/25/2018.

Filed Date: 9/25/18.

Accession Number: 20180925-5002.

Comments Due: 5 p.m. ET 10/9/18.

Docket Numbers: RP18-1206-000.

Applicants: PennEnergy Resources, LLC, R. E. Gas Development, LLC.

Description: Joint Petition for Temporary Waiver of Capacity Release Regulations and Related Tariff Provisions, et al. of PennEnergy Resources, LLC, et al.

Filed Date: 9/24/18.

Accession Number: 20180924-5160.

Comments Due: 5 p.m. ET 10/4/18.

Docket Numbers: RP18-1207-000.

Applicants: Algonquin Gas Transmission, LLC.

Description: § 4(d) Rate Filing: Negotiated Rate—Boston Gas to BBPC 797549 to be effective 10/1/2018.

Filed Date: 9/25/18.

Accession Number: 20180925-5029.

Comments Due: 5 p.m. ET 10/9/18.

Docket Numbers: RP18-1208-000.

Applicants: Iroquois Gas Transmission System, L.P.

Description: § 4(d) Rate Filing: 092518 Negotiated Rates—Wells Fargo Commodities, LLC R-7810-08 to be effective 11/1/2018.

Filed Date: 9/25/18.

Accession Number: 20180925-5032.

Comments Due: 5 p.m. ET 10/9/18.

Docket Numbers: RP18-1209-000.

Applicants: Iroquois Gas Transmission System, L.P.

Description: § 4(d) Rate Filing: 092518 Negotiated Rates—Wells Fargo Commodities, LLC R-7810-09 to be effective 11/1/2018.

Filed Date: 9/25/18.

Accession Number: 20180925-5033.

Comments Due: 5 p.m. ET 10/9/18.

Docket Numbers: RP18-1210-000.

Applicants: Iroquois Gas Transmission System, L.P.

Description: § 4(d) Rate Filing: 092518 Negotiated Rates—Wells Fargo Commodities, LLC R-7810-10 to be effective 11/1/2018.

Filed Date: 9/25/18.

Accession Number: 20180925-5034.

Comments Due: 5 p.m. ET 10/9/18.

Docket Numbers: RP18-1211-000.

Applicants: Iroquois Gas Transmission System, L.P.

Description: § 4(d) Rate Filing: 092518 Negotiated Rates—Wells Fargo Commodities, LLC R-7810-11 to be effective 11/1/2018.

Filed Date: 9/25/18.

Accession Number: 20180925-5035.

Comments Due: 5 p.m. ET 10/9/18.

Docket Numbers: RP18-1212-000.

Applicants: Southern Natural Gas Company, L.L.C.

Description: § 4(d) Rate Filing: Shell Negotiated Rate—October 2018 to be effective 10/1/2018.

Filed Date: 9/25/18.

Accession Number: 20180925-5036.

Comments Due: 5 p.m. ET 10/9/18.

Docket Numbers: RP18-1213-000.

Applicants: Iroquois Gas Transmission System, L.P.

Description: § 4(d) Rate Filing: 092518 Negotiated Rates—Wells Fargo Commodities, LLC R-7810-12 to be effective 11/1/2018.

Filed Date: 9/25/18.

Accession Number: 20180925-5038.

Comments Due: 5 p.m. ET 10/9/18.

Docket Numbers: RP18-1214-000.

Applicants: Iroquois Gas Transmission System, L.P.

Description: § 4(d) Rate Filing: 092518 Negotiated Rates—Wells Fargo Commodities, LLC R-7810-13 to be effective 11/1/2018.

Filed Date: 9/25/18.

Accession Number: 20180925-5039.

Comments Due: 5 p.m. ET 10/9/18.

Docket Numbers: RP18-1215-000.

Applicants: Fayetteville Express Pipeline LLC.

Description: § 4(d) Rate Filing: Negotiated Rate Service Agreement on 9-25-18 to be effective 9/28/2018.

Filed Date: 9/25/18.

Accession Number: 20180925-5054.

Comments Due: 5 p.m. ET 10/9/18.

Docket Numbers: RP18-1216-000.

Applicants: Texas Eastern Transmission, LP.

Description: § 4(d) Rate Filing: Negotiated Rate—Eco-Energy 8953069 eff 10-1-18 to be effective 10/1/2018.

Filed Date: 9/25/18.

Accession Number: 20180925-5055.

Comments Due: 5 p.m. ET 10/9/18.

Docket Numbers: RP18-1217-000.

Applicants: Columbia Gas Transmission, LLC.

Description: § 4(d) Rate Filing: TCO WBX NR and NC Agreements to be effective 10/25/2018.

Filed Date: 9/25/18.

Accession Number: 20180925-5118.

Comments Due: 5 p.m. ET 10/9/18.

Docket Numbers: RP18-1218-000.

Applicants: Dominion Energy Cove Point LNG, LP.

Description: eTariff filing per 1430: DECP—Request for Waiver of Requirement to File Form No. 501-G.

Filed Date: 9/25/18.

Accession Number: 20180925-5121.

Comments Due: 5 p.m. ET 10/9/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 26, 2018.
Nathaniel J. Davis, Sr.,
Deputy Secretary.

[FR Doc. 2018-21412 Filed 10-1-18; 8:45 am]

BILLING CODE 6717-01-P